DEPARTMENT OF THE INTERIOR

Fish and Wildlife Service

[FWS-R9-MB-2008-N00164] [91100-3740-GRNT 7C]

Proposed Information Collection; OMB Control Number 1018-0100; North American Wetlands Conservation Act (NAWCA) Grant Programs

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on September 30, 2008. We may not conduct or sponsor and a person is not required to respond to a collection of information unless it displays a currently valid OMB control number.

DATES: You must submit comments on or before August 25, 2008.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this ICR, contact Hope Grey by mail, fax, or e-mail (see ADDRESSES) or by telephone at (703) 358-2482.

SUPPLEMENTARY INFORMATION:

I. Abstract

The North American Waterfowl Management Plan (NAWMP) is a tripartite agreement among Canada, Mexico, and the United States to enhance, restore, and protect habitat to benefit waterfowl and other wetlands-associated wildlife. Because the NAWMP did not include a mechanism to provide for broadly based and sustained financial support for wetland conservation activities, Congress passed the North American Wetlands Conservation Act in 1989. The NAWCA promotes, through partnerships between the private and public sectors, long-term conservation of North American wetland ecosystems and the waterfowl and other migratory birds, fish, and wildlife that depend upon such habitat.

In addition to providing for a continuing and stable funding base, NAWCA establishes an administrative body, the North American Wetlands Conservation Council. It is made up of a State representative from each of the four flyways, three representatives from nonprofit wetlands conservation organizations, the Secretary of the Board of the National Fish and Wildlife Foundation, and the Director of the Fish and Wildlife Service. The Council recommends funding of select wetlands conservation project proposals to the Migratory Bird Conservation Commission.

There is a Standard and a Small Grants Program. Both are competitive grants programs and require that grant requests be matched by partner contributions at no less than a 1-to-1 ratio. Funds from U.S. Federal sources may contribute to a project, but are not eligible as match.

The Standard Grants Program supports projects in Canada, the United States, and Mexico that involve long-term protection, restoration, and/or enhancement of wetlands and associated uplands habitats. In Mexico, partners may also conduct projects involving technical training, environmental education and outreach, organizational infrastructure development, and sustainable-use studies.

The Small Grants Program operates only in the United States. It supports the same type of projects and adheres to the same selection criteria and administrative guidelines as the U.S. Standard Grants Program. However, project activities are usually smaller in scope and involve fewer project dollars. Grant requests may not exceed $75,000, and funding priority is given to grantees or partners new to the NAWCA Grants Program.

We publish notices of funding availability on the Grants.gov website (http://www.grants.gov) as well as in the Catalog of Federal Domestic Assistance. To compete for grant funds, partnerships submit applications that describe in substantial detail project locations, project resources, future benefits, and other characteristics that meet the standards established by the Council and the requirements of NAWCA. Materials that describe the program and assist applicants in formulating project proposals for Council consideration are available on our website at http://www.fws.gov/birdhabitat/Grants/NAWCA. Persons who do not have access to the Internet may obtain instructional materials by mail. We have not made any major changes in the scope and general nature of the instructions since the OMB first approved the information collection in 1999.

II. Data

OMB Control Number: 1018-0100.

Title: North American Wetlands Conservation Act (NAWCA) Grant Programs.

Service Form Number(s): None.

Type of Request: Extension of currently approved collection.

Affected Public: Households and individuals; businesses and other for-profit organizations; educational organizations; not-for-profit institutions; and Federal, State, local and/or tribal governments.

Respondent's Obligation: Required to obtain or retain a benefit.

Frequency of Collection: On occasion. The Small Grants Program has one project proposal period per year and the Standard Grants Program has two per year. Annual reports are due 90 days after the anniversary date of the grant agreement. Final reports are due 90 days after the end of the project period. The project period is 2 years.

Activity | Number of annual respondents | Number of annual responses | Completion time per response | Annual burden hours
Small Grants - Application | 70 | 70 | 60 hours | 4,200
Small Grants - Reports | 150 | 150 | 30 hours | 4,500
Standard Grants - Application | 85 | 85 | 325 hours | 27,625
Standard Grants - Reports | 200 | 200 | 40 hours | 8,000
Totals | 505 | 505 |  | 44,325

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: May 29, 2008
Hope Grey,
Information Collection Clearance Officer, Fish and Wildlife Service.

[FR Doc. E8-14223 Filed 6-23-08; 8:45 am]

BILLING CODE 4310-55-S